DEPARTMENT OF LABOR

Office of Labor-Management Standards

29 CFR Part 470

RIN 1215-AB33

Obligations of Federal Contractors and Subcontractors; Notice of Employee Rights Concerning Payment of Union Dues or Fees

AGENCY: Office of Labor-Management Standards, Employment Standards Administration, Labor.

ACTION: Notice of request for duplicate copies of comments affected by mail delivery problems.

SUMMARY: The Office of Labor-Management Standards (OLMS) is seeking information about, and duplicate copies of, public comments that may have been submitted via U.S. mail, but that have not yet been received by OLMS because of mail delivery problems that the U.S. Department of Labor experienced from October through December of 2001. The subject of such comments would have been a Notice of Proposed Rule-Making (NPRM) that was published in the Federal Register on October 1, 2001. The NPRM proposed a regulation to implement Executive Order 13201, which was signed by President George W. Bush on February 17, 2001.

DATES: Submission Period: Duplicate copies of comments that were originally submitted by U.S. mail before the November 30, 2001, close of the comment period, and that have not yet been received by OLMS, must be submitted and received by January 2, 2002.

ADDRESSES: Duplicate copies of comments originally submitted via U.S. mail during the comment period should be sent to Don Todd, Deputy Assistant Secretary for Labor-Management Programs, Office of Labor-Management-Standards, Employment Standards Administration, U.S. Department of Labor. Because of the special circumstances, described below, that require the issuance of this notice, OLMS prefers that such duplicate copies and accompanying documentation (see below) be transmitted by facsimile (FAX) machine or e-mail. The e-mail address for transmitting these documents is OLMS-Mail@fenix2.dol-esa.gov. The telephone number of the FAX receiver is (202) 693-1340. Please note that the NPRM originally limited comments sent via FAX transmittal to five pages or fewer; however, this limitation will not apply to transmission of duplicate copies. As described in detail in the “Supplementary Information” section below, arrangements for hard-copy delivery may also be made by contacting OLMS.

As set forth in the NPRM, comments will be available for public inspection during normal business hours at the above address.

FOR FURTHER INFORMATION CONTACT: Kay Oshel, Chief, Division of Interpretations and Standards, Office of Labor-Management Standards, Employment Standards Administration, U.S. Department of Labor, 200 Constitution Avenue, NW, Room N-5605, Washington, DC 20210, (202) 693-1233 (this is not a toll-free number). Individuals with hearing impairments may call 1-800-877-8339 (TTY/TDD).

SUPPLEMENTARY INFORMATION: On October 1, 2001, OLMS published the above-mentioned NPRM. See 66 FR 50010. The NPRM proposed a Rule to implement Executive Order 13201 (66 FR 11221, February 22, 2001). As set forth in detail in the preamble to the NPRM, that Order requires non-exempt Government contractors and subcontractors to post notices informing their employees that under Federal law, those employees have certain rights related to union membership and use of union dues and fees. The Order also provides the text of contractual provisions that Federal Government contracting departments and agencies must include in every Government contract, except for collective bargaining agreements (as defined in 5 U.S.C. 7103(a)(8)) and contracts for purchases under the Simplified Acquisition Threshold (as defined in the Office of Federal Procurement Policy Act, 41 U.S.C. 403). The Rule proposed in the NPRM would provide the text of the required contractual provisions, explain exemptions, and set forth procedures for ensuring compliance with the Order; it also would contain other related requirements. See 66 FR 50010 et seq. Both the Executive Order and the Proposed Rule were intended to inform employees of their rights under the decisions of the United States Supreme Court in Communications Workers of America v. Beck, 487 U.S. 735 (1988), and related cases.

The NPRM invited comments on the Proposed Rule. Comments were to be submitted to Deputy Assistant Secretary Don Todd at the Department of Labor's (the Department's) main building, the Frances Perkins Building (FPB), in Washington, DC. The NPRM established the deadline for receipt of such comments as November 30, 2001.

On October 22, 2001, because postal workers at the U.S. Postal Service's Brentwood mail distribution center in Washington, DC, were found to have been exposed to anthrax bacteria, the Department temporarily closed its mailrooms in the Washington metropolitan area that received mail from Brentwood, including the mailroom in the Frances Perkins Building. As a result, all mail that was addressed to the FPB (including all first-class mail postmarked October 12 or later) was redirected to a Lima, Ohio, facility to be irradiated. This situation was not anticipated when OLMS set the deadline for receipt of comments on the NPRM.

The FPB mailroom reopened on Monday, November 26, 2001. However, because of the large amount of mail that was redirected to Ohio for irradiation, delivery of the redirected mail to its intended recipients has not yet been completed, and may not be completed for some time.

As of December 12, 2001, OLMS has received comments about the NPRM from the following six commenters: the National Legal and Policy Center; the Employment Policy Foundation; the National Right to Work Legal Defense Foundation, Inc.; the Associated General Contractors of America, Inc.; LPA, Inc.; and a group of Members of Congress who serve on the U.S. House of Representatives Committee on Education and the Workforce. OLMS seeks information about, and duplicate copies of comments from, any other individuals or organizations who submitted comments about the NPRM via U.S. mail during the comment period. Such duplicate copies should be accompanied by documentation establishing that the comments were originally mailed on or before the November 30 deadline.

Duplicate copies of comments and accompanying documentation may be delivered via facsimile or e-mail at the phone number and address listed above. Where necessary, hard copies may also be delivered to the address listed above in the “For Further Information Contact” section, via hand delivery, courier service, or a package delivery service such as United Parcel Service, FedEx, or Airborne Express. OLMS recommends that, where such hard copy delivery is necessary, the commenter contact OLMS by telephone in advance to make appropriate arrangements for delivery.

Signed at Washington, D.C., this 14th day of December, 2001.
D. Cameron Findlay,
Deputy Secretary.
Don Todd,
Deputy Assistant Secretary for Labor-Management Programs.

[FR Doc. 01-31210 Filed 12-17-01; 10:33 am]

BILLING CODE 4510-CP-P